ENVIRONMENTAL PROTECTION AGENCY

[FRL OP-OFA-138]

Environmental Impact Statements; Notice of Availability

Responsible Agency: Office of Federal Activities, General Information 202-564-5632 or https://www.epa.gov/nepa.

Weekly receipt of Environmental Impact Statements (EIS)

Filed July 29, 2024 10 a.m. EST Through August 5, 2024 10 a.m. EST

Pursuant to 40 CFR 1506.9.

Notice:

Section 309(a) of the Clean Air Act requires that EPA make public its comments on EISs issued by other Federal agencies. EPA's comment letters on EISs are available at: https://cdxapps.epa.gov/cdx-enepa-II/public/action/eis/search.

EIS No. 20240140, Draft, USAF, AZ, Regional Special Use Airspace Optimization to Support Air Force Missions in Arizona, Comment Period Ends: 10/09/2024, Contact: Grace Keesling 210-925-4534.

EIS No. 20240141, Draft, GSA, WA, Lynden and Sumas LPOE Modernization and Expansion Projects, Comment Period Ends: 09/23/2024, Contact: Pat Manning 253-931-7183.

EIS No. 20240143, Final, BLM, ND, North Dakota Resource Management Plan Revision, Review Period Ends: 09/09/2024, Contact: Kristine Braun 701-690-8799.

EIS No. 20240144, Final, BLM, NM, Rio Puerco Field Office Resource Management Plan, Review Period Ends: 09/09/2024, Contact: Adam Lujan 505-761-8734.

EIS No. 20240145, Final, USFS, MT, Stillwater Mining Company, East Boulder Mine Amendment 004 Expansion EIS, Review Period Ends: 09/10/2024, Contact: Robert Grosvenor 406-848-7375.

EIS No. 20240146, Draft, BLM, WY, Dry Creek Trona Mine Project, Comment Period Ends: 09/23/2024, Contact: Kelly Lamborn 307-828-4505.

Dated: August 5, 2024.
Nancy Abrams,
Associate Director, Office of Federal Activities.

[FR Doc. 2024-17716 Filed 8-8-24; 8:45 am]

BILLING CODE 6560-50-P